DEPARTMENT OF HEALTH AND HUMAN SERVICES

Health Resources and Services Administration

Health Center Program

AGENCY: Health Resources and Services Administration, HHS.

ACTION: Notice of Noncompetitive Replacement Award to Community Health Center of Richmond.

SUMMARY: The Health Resources and Services Administration (HRSA) will be transferring Health Center Program (section 330 of the Public Health Service Act) New Access Point funds originally awarded to William F. Ryan Community Health Center, Inc., to the Community Health Center of Richmond to ensure the provision of critical primary health care services to underserved populations in Staten Island, Richmond County, New York.

SUPPLEMENTARY INFORMATION:

Former Grantee of Record: William F. Ryan Community Health Center, Inc.

Original Period of Grant Support: March 1, 2009, to February 28, 2011.

Replacement Awardee: Community Health Center of Richmond.

Amount of Replacement Award: $1,300,000.

Period of Replacement Award: The period of support for the replacement award is March 1, 2009 to February 28, 2011.

Authority: Section 330 of the Public Health Service Act, 42 U.S.C. 245b.

CFDA Number: 93.703.

Justification for the Exception to Competition: The former grantee, William F. Ryan Community Health Center, Inc., notified HRSA that its original subrecipient, Community Health Center of Richmond, will directly initiate primary health care services in Staten Island to the more than 5,250 low income, underserved and uninsured individuals in the original service area, Staten Island, Richmond County, New York, as had been proposed in a funded New Access Point grant application.

Community Health Center of Richmond was identified as the provider of services on behalf of the William F. Ryan Community Health Center under the original application.

Community Health Center of Richmond is an experienced provider of care to the original target population, has a demonstrated record of compliance with the Health Center Program statutory and regulatory requirements, can provide primary health care services immediately, and is located in the same geographical area where the William F. Ryan Community Health Center, Inc.'s services were to have been provided.

Community Health Center of Richmond is a subrecipient of the former grantee and will be able to provide continuity of care to patients of the former grantee. This underserved target population has an immediate need for vital primary health care services and would be negatively impacted by any delay caused by a competition. As a result, in order to ensure that critical primary health care services are available to the original target population in a timely manner, this replacement award will not be competed.

FOR FURTHER INFORMATION CONTACT: Marquita Cullom-Stott via e-mail at MCullom-Stott@hrsa.gov or 301-594-4300.

Dated: June 18, 2009.
Mary K. Wakefield,
Administrator.

[FR Doc. E9-14980 Filed 6-24-09; 8:45 am]

BILLING CODE 4165-15-P